FEDERAL COMMUNICATIONS COMMISSION

47 CFR Part 54

[WC Docket No. 17-310; FCC No. 23-110; FR ID 245909]

Promoting Telehealth in Rural America

AGENCY: Federal Communications Commission.

ACTION: Final rule; announcement of effective date.

SUMMARY: In this document, the Federal Communications Commission (Commission) announces that the Office of Management and Budget (OMB) has approved, for a period of three years, a revision to an information collection associated with the rules for the Rural Health Care Program contained in the final rule published January 11, 2024, as the Commission's Order, FCC 23-110. This document announces the effective dates of the new information collection requirements contained in that final rule.

DATES: The amendments to §§ 54.601(b) and (c) (amendatory instruction 2) and 54.622(e)(1)(i) through (ii) and (i)(3)(iv) (amendatory instruction 4), published at 89 FR 1834, January 11, 2024, are effective September 24, 2024.

FOR FURTHER INFORMATION CONTACT: Bryan P. Boyle, Telecommunications Access Policy Division, Wireline Competition Bureau at (202) 418-7400 or TTY: (202) 418-0484 or via email: Bryan.Boyle@fcc.gov. For additional information concerning the Paperwork Reduction Act information collection requirements, contact Nicole Ongele at (202) 418-2991 or via email: Nicole.Ongele@fcc.gov.

SUPPLEMENTARY INFORMATION: The Commission submitted new information collection requirements for review and approval by OMB, as required by the Paperwork Reduction Act (PRA) of 1995, on July 8, 2024, which were approved by the OMB on September 16, 2024. The information collection requirements are contained in the Commission's Third Report and Order (FCC 23-110), published at 89 FR 1834, January 11, 2024. The OMB Control Number is 3060-0804. The Commission publishes this document as an announcement of the effective date of the rules that required PRA approval. If you have any comments on the burden estimates listed herein, or how the Commission can improve the collections and reduce any burdens caused thereby, please contact Nicole Ongele, Federal Communications Commission, 45 L Street NE, Washington, DC 20554. Please include the OMB Control Number, 3060-0804, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on September 16, 2024, for the information collection requirements contained in 47 CFR 54.601 and 47 CFR 54.622.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0804.

The foregoing notification is required by the Paperwork Reduction Act of 1995, Public Law 104-13, October 1, 1995, and 44 U.S.C. 3507.

The total annual reporting burdens and costs for the respondents are as follows:

OMB Control Number: 3060-0804.

OMB Approval Date: September 16, 2024.

OMB Expiration Date: September 30, 2027.

Title: Universal Service—Rural Health Care Program.

Form Nos.: FCC Form 460, 461, 462, 463, 465, 466, 467, and 469.

Type of Review: Revision of a currently approved collection.

Respondents: Business or other for-profit; Not-for-profit institutions; Federal Government; and State, Local, or Tribal Government.

Number of Respondents and Responses: 12,854 unique respondents; 117,071 responses.

Estimated Time per Response: 0.30-17 hours.

Frequency of Response: On occasion, One-time, Annual, and Monthly reporting requirements.

Obligation to Respond: Required to obtain or retain benefits. Statutory authority for this collection of information is contained in sections 1-4, 201-205, 214, 254, 303(r), and 403 of the Communications Act of 1934, as amended, 47 U.S.C. 151-154, 201-205, 214, 254, 303(r), and 403, unless otherwise noted.

Total Annual Burden: 442,389 hours.

Total Annual Cost: No Cost.

Needs and Uses: The Commission provides revisions to information collection 3060-0804 as a result of the 2023 Promoting Telehealth Third Report and Order, FCC 23-110, released December 14, 2023 (89 FR 1834, January 11, 2024). This collection is utilized for the RHC support mechanism of the Commission's universal service fund (USF). The collection of this information is necessary so that the Commission and the Universal Service Administrative Company (USAC) will have sufficient information to determine if entities are eligible for funding pursuant to the RHC universal service support mechanism, to determine if entities are complying with the Commission's rules, and to promote program integrity. This information is also necessary in order to allow the Commission to evaluate the extent to which the RHC Program is meeting the statutory objectives specified in section 254(h) of the 1996 Act, and the Commission's performance goals for the RHC Program.

This information collection updates: (1) extend and revise some of the existing information collection requirements for the Healthcare Connect Fund and Telecom Programs; and (2) add a new information collection requirement for the Healthcare Connect Fund and Telecom Programs. As part of this information collection, the Commission is also revising the FCC Form 460 Template, the FCC Form 461 Template, the FCC Form 465 Template, the FCC Form 466 Template effective funding year 2025, and the Post-Commitment Template effective funding year 2024. The FCC Form 467 and Telecom Invoice Form will not be used after funding year 2023.

As part of this information collection, the Commission is harmonizing the RHC Program eligibility determination process by using the FCC Form 460 for eligibility determinations in both the Telecom Program and the HCF Program, eliminating the eligibility determination portion from FCC Form 465, which was previously used for eligibility determinations in the Telecom Program. The FCC Form 460 also seeks information applicable to conditional approvals of eligibility, which will enable health care providers to engage in competitive bidding and request funding (but not receive disbursements) before they become eligible. Additionally, the FCC Form 466 is revised to reflect a streamlined process for calculating urban rates. Finally, the information collection allows health care providers to update the time period covered by evergreen contract designations.

The Healthcare Connect Fund Program currently includes FCC Forms 460, 461, 462, and 463. Effective funding year 2024, the Telecom Program includes FCC Forms 465, 466, and 469 and will include the FCC Form 460 starting in funding year 2025. The information on the FCC Form templates is a representative description of the information to be collected via an online portal and is not intended to be a visual representation of what each applicant or service provider will see, the order in which they will see information, or the exact wording or directions used to collect the information. Where possible, information already provided by applicants from previous filing years or that was pre-filed in the system portal will be carried forward and auto-generated into the form to simplify the information collection for applicants.

Federal Communications Commission
Marlene Dortch,
Secretary. Office of the Secretary.

[FR Doc. 2024-21645 Filed 9-23-24; 8:45 am]

BILLING CODE 6712-01-P